DEPARTMENT OF ENERGY

Federal Energy Regulatory Commission

Combined Notice of Filings #2

March 3, 2008.

Take notice that the Commission has received the following Natural Gas Pipeline Rate and Refund Report filings:

Docket Numbers: RP08-223-000.

Applicants: Equitrans, L.P.

Description: Equitrans LP submits Twentieth Revised Sheet 5, Thirtieth Revised Sheet 6 and Seventeenth Revised Sheet 10 to its FERC Gas Tariff, Original Volume, to be effective April 1, 2008.

Filed Date: 02/29/2008.

Accession Number: 20080303-0115.

Comment Date: 5 p.m. Eastern Time on Wednesday, March 12, 2008.

Docket Numbers: RP08-224-000.

Applicants: Florida Gas Transmission Company, LLC.

Description: Florida Gas Transmission Company, LLC submits First Revised Sheet 1, Eight Revised Sheet 7, Seventh Revised Sheet 8 and First Revised Sheet 15 to its FERC Gas Tariff, Fourth Revised Volume 1, to be effective April 1, 2008.

Filed Date: 02/29/2008.

Accession Number: 20080303-0114.

Comment Date: 5 p.m. Eastern Time on Wednesday, March 12, 2008.

Docket Numbers: RP08-225-000.

Applicants: Dominion Cove Point LNG, LP.

Description: Dominion Cove Point LNG, LP submits Ninth Revised Sheet 11 and Eight Revised Sheet 12 of its FERC Gas Tariff, Original Volume 1, to be effective April 1, 2008.

Filed Date: 02/29/2008.

Accession Number: 20080303-0113.

Comment Date: 5 p.m. Eastern Time on Wednesday, March 12, 2008.

Docket Numbers: RP08-226-000.

Applicants: High Island Offshore System, L.L.C.

Description: High Island Offshore System, LLC submits Seventh Revised Sheet 11 to FERC Gas Tariff, Third Revised Volume 1, proposed to be effective April 1, 2008.

Filed Date: 02/29/2008.

Accession Number: 20080303-0112.

Comment Date: 5 p.m. Eastern Time on Wednesday, March 12, 2008.

Docket Numbers: RP08-227-000.

Applicants: Guardian Pipeline, L.L.C.

Description: Guardian Pipeline, LLC submits Fourth Revised Sheet 1 et al to its FERC Gas Tariff, Original Volume 1, to be effective April 1, 2008.

Filed Date: 02/29/2008.

Accession Number: 20080303-0111.

Comment Date: 5 p.m. Eastern Time on Wednesday, March 12, 2008.

Docket Numbers: RP08-228-000.

Applicants: Williston Basin Interstate Pipeline Co.

Description: Williston Basin Interstate Pipeline Co submits Sixty-Eighth Revised Sheet 15 et al to FERC Gas Tariff, Second Revised Volume 1 to its Annual Fuel and Electric Power Reimbursement Adjustment, effective April 1, 2008.

Filed Date: 02/29/2008.

Accession Number: 20080303-0110.

Comment Date: 5 p.m. Eastern Time on Wednesday, March 12, 2008.

Docket Numbers: RP08-229-000.

Applicants: Dominion Cove Point LNG, LP.

Description: Dominion Cove Point LNG, LP submits Tenth Revised Sheet 10 and Seventh Revised Sheet 12 to its FERC Gas Tariff, Original Volume 1, to be effective April 1, 2008.

Filed Date: 02/29/2008.

Accession Number: 20080303-0109.

Comment Date: 5 p.m. Eastern Time on Wednesday, March 12, 2008.

Docket Numbers: RP08-230-000.

Applicants: Florida Gas Transmission Company, LLC.

Description: Florida Gas Transmission Co, LLC submits Ninth Revised Sheet 7 et al to its FERC Gas Tariff, Fourth Revised Volume 1, to be effective April 1, 2008.

Filed Date: 02/29/2008.

Accession Number: 20080303-0108.

Comment Date: 5 p.m. Eastern Time on Wednesday, March 12, 2008.

Docket Numbers: RP08-231-000.

Applicants: Florida Gas Transmission Company, LLC.

Description: Florida Gas Transmission Co, LLC submits Tenth Revised Sheet 7 to its FERC Gas Tariff, Fourth Revised Volume 1, to be effective April 1, 2008.

Filed Date: 02/29/2008.

Accession Number: 20080303-0107.

Comment Date: 5 p.m. Eastern Time on Wednesday, March 12, 2008.

Docket Numbers: RP08-232-000.

Applicants: Transwestern Pipeline Company, LLC.

Description: Transwestern Pipeline Co, LLC submits Second Revised Sheet 0 et al to its FERC Gas Tariff, Third Revised Volume 1, to be effective April 1, 2008.

Filed Date: 02/29/2008.

Accession Number: 20080303-0106.

Comment Date: 5 p.m. Eastern Time on Wednesday, March 12, 2008.

Docket Numbers: RP08-233-000.

Applicants: Colorado Interstate Gas Company.

Description: Colorado Interstate Gas Company submits reimbursement percentage for Lost, Unaccounted-For and Others Fuel Gas.

Filed Date: 02/29/2008.

Accession Number: 20080303-0116.

Comment Date: 5 p.m. Eastern Time on Wednesday, March 12, 2008.

Docket Numbers: RP08-234-000.

Applicants: Tennessee Gas Pipeline Company.

Description: Tennessee Gas Pipeline Company submits Twenty-Third Revised Sheet 25 et al. to its FERC Gas Tariff, Fifth Revised Volume 1, to be effective April 1, 2008.

Filed Date: 02/29/2008.

Accession Number: 20080303-0117.

Comment Date: 5 p.m. Eastern Time on Wednesday, March 12, 2008.

Docket Numbers: RP08-235-000.

Applicants: Cheyenne Plains Gas Pipeline Company LLC.

Description: Cheyenne Plains Gas Pipeline Company, LLC submit the tariff sheet updates CPG's contract extension language to provide the negotiation and continuation of an existing transportation service agreement, tariff sheet become effective April 1, 2008.

Filed Date: 02/29/2008.

Accession Number: 20080303-0118.

Comment Date: 5 p.m. Eastern Time on Wednesday, March 12, 2008.

Docket Numbers: RP08-236-000.

Applicants: Panhandle Eastern Pipe Line Company, LP.

Description: Panhandle Eastern Pipe Line Company, LP submits the revised tariff sheets listed on Appendix A to its FERC Gas Tariff, Third Revised Volume 1 proposed to be effective April 1, 2008.

Filed Date: 02/29/2008.

Accession Number: 20080303-0119.

Comment Date: 5 p.m. Eastern Time on Wednesday, March 12, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-4482 Filed 3-6-08; 8:45 am]

BILLING CODE 6717-01-P